OFFICE OF PERSONNEL MANAGEMENT

Privacy Act of 1974; Amendment to a System of Records

AGENCY: Office of Personnel Management.

ACTION: Technical amendment of existing routine use.

SUMMARY: This notice serves as a technical amendment to an existing routine use contained in OPM's CENTRAL-1 system of records.

DATES: The change will be effected without further notice on June 12, 2000 unless comments are received that would result in a contrary determination.

ADDRESSES: Send written comments to the Office of Personnel Management, ATTN: Mary Beth Smith-Toomey, Office of the Chief Information Officer, 1900 E Street NW., Room 5415, Washington, DC 20415-7900.

FOR FURTHER INFORMATION CONTACT: Mary Beth Smith-Toomey, (202) 606-8358.

SUPPLEMENTARY INFORMATION: In OPM's CENTRAL-1 system of records, routine use(s) has been amended to move “requesting” in front of the word “States” to clarify that OPM can disclose information to Federal agencies regardless of whether they specifically requested the information.

(s) To disclose information contained in the Retirement Annuity Master File; including the name, Social Security Number, date of birth, sex, OPM's claim number, health benefit enrollment code, retirement date, retirement code (type of retirement), annuity rate, pay status of case, correspondence address, and ZIP code, of all Federal retirees and their survivors to Federal agencies and requesting States to help eliminate fraud and abuse in the benefit programs administered by the Federal agencies and States (and those States to local governments) and to collect debts and overpayments owed to the Federal Government, and to State governments and their components.

Office of Personnel Management.
Janice R. Lachance,
Director.

[FR Doc. 00-10989 Filed 5-2-00; 8:45 am]

BILLING CODE 6325-01-P